DEPARTMENT OF LABOR

Office of the Secretary

Bureau of International Labor Affairs; Notice of Reassignment of Functions of Office of Trade Agreement Implementation to Office of Trade and Labor Affairs; Notice of Procedural Guidelines

December 14, 2006.

AGENCY: Office of the Secretary, Labor.

ACTION: Notice of Reassignment of Functions of Office of Trade Agreement Implementation to Office of Trade and Labor Affairs; Notice of Procedural Guidelines.

SUMMARY: The Secretary of Labor announces that the functions of the Office of Trade Agreement Implementation (OTAI) of the Bureau of International Labor Affairs (ILAB) have been reassigned to the newly established Office of Trade and Labor Affairs (OTLA). The OTLA will serve as the Contact Point for purposes of administering the labor chapters of the U.S.-Australia, U.S.-Bahrain, U.S.-Chile, U.S.-Morocco, U.S.-Singapore, and U.S.-Dominican Republic-Central America (CAFTA-DR) Free Trade Agreements, as well as labor provisions of other free trade agreements to which the United States may become a party to the extent authorized in such agreements, implementing legislation, or accompanying statements of administrative action. The OTLA will maintain the designation of the National Administrative Office and continue its function to administer Departmental responsibilities under the North American Agreement on Labor Cooperation. The address for this office is: Office of Trade and Labor Affairs, Bureau of International Labor Affairs, U.S. Department of Labor, 200 Constitution Avenue, NW., Room S-5303, Washington, DC 20210. The telephone numbers are (office) 202-693-4887 and (facsimile) 202-693-4851.

In addition, this notice sets out revised procedural guidelines for the Department of Labor's receipt and review of public submissions on matters related to Free Trade Agreement (FTA) labor chapters and the North American Agreement on Labor Cooperation (NAALC), and describes functions of the OTLA.

DATES: Effective Date: This document is effective as of December 21, 2006.

FOR FURTHER INFORMATION CONTACT: Director, Office of Trade and Labor Affairs, Bureau of International Labor Affairs, U.S. Department of Labor, 200 Constitution Avenue, NW., Room S-5303, Washington, DC 20210. Telephone: (202) 693-4887 (this is not a toll-free number). Facsimile: 202-693-4851. E-mail: OTLA@dol.gov.

SUPPLEMENTARY INFORMATION: The Bureau of International Labor Affairs (ILAB) has undertaken a reorganization that combines all of ILAB's trade-related responsibilities into a new office, the Office of Trade and Labor Affairs (OTLA). The OTLA is comprised of three new divisions: the Trade Policy and Negotiations Division; the Economic and Labor Research Division; and the Trade Agreement Administration and Technical Cooperation Division. This reorganization will enhance coordination and synergy among the various ILAB organizational units conducting trade negotiations, research, reporting, and implementation of the labor provisions of free trade agreements. The OTLA will exercise all functional responsibilities formerly exercised by the OTAI.

The OTLA is responsible for implementing trade-related labor policy and coordinating international technical cooperation in support of the labor provisions in FTAs and the NAALC. The OTLA's functions include: (1) Coordinating the development and implementation of cooperative activities stipulated in the NAALC and FTA labor chapters; (2) Providing for the receipt and consideration of public submissions on matters related to the NAALC and FTA labor chapters; (3) Serving as the U.S. government contact point and resource for information on matters related to the NAALC and FTA labor chapters for the general public, the National Administrative Offices (NAOs) of Canada and Mexico, for the Secretariat of the Commission for Labor Cooperation and other such entities created under the FTA labor chapters.

The NAALC and the labor provisions in several recently concluded FTAs require that the OTLA provide for the receipt and review of submissions on labor law matters in the countries signatories to the Agreements. Further details concerning submissions, cooperative activities, and information available to the public appear in the body of the Federal Register notice, Sections C through I below.

On December 23, 2004, the Bureau of International Labor Affairs published a Federal Register notice informing the public of the renaming of the National Administrative Office as the Office of Trade Agreement Implementation; designating the office as the contact point for the NAALC and the labor provisions of FTAs; and requesting comments on the proposed procedural guidelines for the receipt and review of public submissions (69 FR 77128 (Dec. 23, 2004)). The notice provided a 60-day period for submitting written comments, which closed on February 22, 2005. During this period, comments were received from three parties: the American Federation of Labor-Congress of Industrial Organizations (AFL-CIO), the U.S. Chamber of Commerce, and Mexico's NAO. The comments were given careful consideration and where appropriate, resulted in modifications to the proposed procedural guidelines.

AFL-CIO Comments

The AFL-CIO commented that the U.S.-Jordan FTA was excluded from the list of agreements that will be administered by the OTLA and requested that this omission be remedied. The Agreement was excluded because the Department of Labor is not designated as the contact point for the labor provisions of the Jordan Agreement. The four FTAs (Morocco, Australia, Dominican Republic-Central America, and Bahrain) that became effective after the publication of the Department's December 2004 Notice have been added to the list of covered FTAs, and future FTAs will be covered by these procedures to the extent authorized in such agreements, implementing legislation, or accompanying statements of administrative action.

The AFL-CIO commented that the proposed guidelines are more restrictive than the current procedural guidelines for the NAALC, and could reduce the number of meritorious complaints that are accepted. In this regard, the AFL-CIO contends that the proposed procedural guidelines may exceed the Department's authority because they expand the grounds upon which the OTLA may reject a submission, narrow the class of acceptable submissions, and lack “broad direction to accept most submissions.” For example, the AFL-CIO commented that Section F.2 of the proposed guidelines adds new requirements for including copies of relevant laws and regulations in submissions, and improperly requires a statement of whether the issue affects trade between the parties.

It is not the Department's intent to limit the acceptance of public submissions under the new procedural guidelines. The criteria for evaluating submissions in section F.2 are intended to encourage the submission of relevant information to improve the OTLA's ability to consider and review submissions. Moreover, section F.2 provides that a submission address the criteria “as relevant * * * [and] to the fullest extent possible.” The OTLA recognizes that there may be circumstances where a factor is not relevant to a submission or where information on that factor is unavailable. Under those circumstances, the absence of such information would not be determinative in the OTLA's consideration and review of submissions. For example, the instruction that submissions include copies of relevant laws and regulations to the extent practicable reflects the OTLA's goal of obtaining the maximum amount of information relevant to the matters raised in the submission. Similarly, the instruction that submitters state whether the issues raised in a submission affect trade between the parties is a relevant factor relating to a potential decision to invoke dispute settlement under the FTAs.

The AFL-CIO commented that section C.7 of the proposed guidelines limits the basis for consultations by restricting consultations to “any matter arising under a labor chapter or the NAALC,” instead of “any matter relating to another Party's labor laws, administration, or labor market conditions.” The AFL-CIO notes, correctly, that Article 21.1 of the NAALC allows consultations regarding “any matter relating to another Party's labor laws, administration, or labor market conditions.” The intent of section C.7 was to allow for consultations regarding any matter for which consultations are expressly contemplated under the labor chapters of existing and future FTAs. Therefore, in response to the AFL-CIO's comment, the OTLA has revised section C.1 and C.7 to make clear that the basis for consultations under the NAALC has not changed.

The AFL-CIO commented that section F.2(e) of the proposed guidelines unnecessarily requires a submission to address whether or not the violation alleged in the submission reflects something other than a reasonable exercise of discretion or a bona fide decision regarding the allocation of resources. The AFL-CIO contends that this factor is irrelevant to many submissions, and burdensome to document inasmuch as it requires submitters to demonstrate a negative. The Department concurs with the AFL-CIO, and therefore this criterion has been omitted from the final notice.

Finally, the AFL-CIO commented that section G.2 of the proposed guidelines “eliminates the presumption in favor of acceptance” of a submission, and is likely to result in the rejection of meritorious submissions. The AFL-CIO also commented that the proposed guidelines are likely to create confusion and produce inconsistent rulings by the OTLA because of the broad range of factors to be considered before the OTLA may accept or reject submissions. The AFL-CIO contends it is not clear how the OTLA will weigh the G.2 factors in considering whether to accept or reject a submission.

Section G.2 clearly sets forth the criteria to be considered by the OTLA in deciding whether to accept a submission. The purpose of the change to section G.2 was to combine all the factors to be considered by the OTLA when deciding to accept or reject a submission; it was not intended as a functional change in how the OTLA reviews submissions for acceptance. The change to section G.2 was intended to eliminate any perception that the OTLA's review process resulted in the automatic acceptance of submissions. Under the procedural guidelines established in 1994, acceptance of submissions under the NAALC was always conditioned on whether a submission raised issues relevant to labor law matters in the territory of another party and whether a review would further the objectives of the Agreement. Further, submissions were always subject to rejection on several grounds (e.g., failure to seek domestic remedies, similarity to a recent submission without significant new information, etc.). Section G.2 of the revised guidelines retains the factors established by the 1994 guidelines for the OTLA to consider when deciding whether to accept a submission for review, and thus the OTLA maintains the same level of flexibility in making such decisions. Accordingly, there is no basis for the AFL-CIO's assertion that section G.2 would result in the rejection of meritorious submissions, and it is not necessary to revise Section G.2 in order to assure consideration of meritorious submissions.

U.S. Chamber of Commerce Comments

The U.S. Chamber of Commerce (“Chamber”) commented generally that the submission process is subject to abuse by labor organizations seeking to put public pressure on an employer. The Chamber proposed that the Department establish additional requirements to be met before a submission is accepted by the OTLA: (1) That the OTLA decline a submission based on a single incident; (2) that the OTLA decline a submission that has not been fully adjudicated in the country of jurisdiction; (3) that there should be no presumption that a submission should be accepted; (4) that the OTLA decline to identify a submission by the name of the employer; (5) that the OTLA establish a presumption against holding a public hearing on a submission; and, (6) that the OTLA adopt procedures to prevent the submission process from being used to interfere with an ongoing labor dispute.

The OTLA declines to adopt the Chamber's proposal that it decline a submission based on a single incident, or because it has not been fully adjudicated in the country of jurisdiction. Submission of evidence of a single incident does not preclude the possibility that, upon further investigation, a pattern or practice of non-compliance might be found; indeed it may be difficult for a submitter to compile evidence of multiple instances of non-compliance. As to the proposed exhaustion requirement, neither the NAALC nor the FTA labor chapters require submitters to exhaust their domestic remedies before filing a submission with a Party's contact point. Further, the scope of public submissions under an FTA or the NAALC is not limited to matters that may come before an adjudicatory body. Moreover, allegations that a Party's administrative, quasi-judicial, judicial, and labor tribunal proceedings are not fair, equitable, or transparent may form the basis of a submission asserting that Party's failure to meet its commitments under the NAALC or an FTA. Finally, to accept the Chamber's proposal to require full adjudication in the country of origin would provide a means for a government party to veto, through inaction, the OTLA's consideration of a particular submission.

The Chamber of Commerce supports the Department's revision of section G.2 as an effective means of eliminating any presumption that a submission will be accepted. As explained above in response to the AFL-CIO's comments, the change in section G.2 was not intended as a functional change in how the OTLA reviews submissions for acceptance. A review of the disposition of public submissions to the OTLA since 1994 indicates that, in practice, the OTLA has not read the guidelines to create a presumption that a submission will be accepted.

In response to the Chamber's comment that a submission not be identified by the name of the employer, the OTLA notes that submissions have not been identified by employer name since 2001. The OTLA currently uses the geographical location of the subject of the submission to identify the submission.

Concerning public hearings, the OTLA's experience is that hearings can be effective means of gathering information and testimony from witnesses. A public hearing is also an important means of assuring transparency in the OTLA's functioning. In section H.3 of both the current and proposed guidelines, the OTLA retains the flexibility to hold a public hearing as a means of acquiring information relevant to its review of a submission. In addition, in the proposed guidelines, holding a public hearing is mentioned as one of many potential means for the public to submit relevant information. Therefore, the Department finds it inadvisable to create a presumption against holding a public hearing, and the guidelines will retain the flexibility for the OTLA to hold public hearings in appropriate cases.

The Chamber recommended that the Department adopt further guidelines to ensure that the submission process not be used to intervene or interfere with labor disputes. As the contact point on the labor chapters of an FTA and the NAALC, the OTLA must provide for the receipt of public submissions on any matter relating to a labor chapter of an FTA or the NAALC. In the past, submissions have often referred to an ongoing labor dispute, and, in some instances, information about a labor dispute has provided useful context for the alleged violations and facilitated the OTLA's review of the allegations. In the context of the review process, however, the OTLA's role is not to assess the merits of the labor dispute, but to assist in the resolution of issues related to a Party's obligations under the NAALC or the labor chapter of an FTA. The proposed guidelines do not alter the focus of the review, which continues to be on assessing government action or inaction and not on the behavior of particular employers or workers.

Mexican NAO Comments

The Mexican NAO commented that proposed section C.1, which “encourages” public input and provides for the receipt of communications relating to the NAALC or a labor chapter of an FTA, exceeds the authority given to the OTLA by Article 16.3 of the NAALC to merely “provide for the submission and receipt” of public communications. The word “encourage” in the first sentence of section C.1 of the proposed guidelines referred to the receipt of input from the public on a broad range of issues related to a labor chapter of an FTA or the NAALC. It did not refer to the receipt of submissions, which specifically deal with possible violations of a labor chapter of an FTA or the NAALC, and was not intended to encourage the filing of submissions against Parties. However, to clarify any possible ambiguities in the language of section C.1, the section has been revised to state that the OTLA shall “receive and consider” public communications on matters relating to a labor chapter of an FTA and the NAALC, and the objective of encouraging public comments on labor issues has been moved to section C.3.

Mexico also commented that consultations with foreign government representatives of NAALC Parties should be undertaken only through the NAO of the party against whom a submission was filed. The language of section C.1 has been revised to clarify that consultations with a foreign government shall take place with foreign government officials, the designated contact point (in the case of the NAALC, the Mexican or Canadian NAO), and non-government representatives, as appropriate.

Time Frames for Agency Action on Submissions

In addition to addressing the public comments on the proposed procedural guidelines, the Department has determined it is appropriate to reconsider whether the time frames for OTLA action on submissions contained in the proposed guidelines are realistic. Section G.1 of the proposed guidelines provides that OTLA must decide whether to accept a submission for review within 60 days of the receipt of the submission, the same time period as provided in section G.1 of the current procedural guidelines. 59 FR 16660 (1994). In addition, section H.7 of the proposed guidelines provides that OTLA must issue a public report on a submission “[w]ithin 120 days of the acceptance of a submission for review, unless circumstances require an extension of time of up to 60 additional days * * *,” the same time period provided in section H.8 of the current procedural guidelines. 59 FR 16660 (1994). These time periods are not mandated by any statute or other authority, and are matters of agency procedure. Experience under the current guidelines has demonstrated that these periods of time for accepting submissions and issuing final reports are not always sufficient, for example, in cases where significant supplemental materials are provided by the submitters, where issues are particularly complex, or where on-site investigations are conducted outside of the United States.

Upon further consideration, OTLA has determined that the guidelines should provide additional flexibility in the time periods for accepting submissions and preparation of public reports, to establish a more realistic timeframe. Accordingly, section G.1 has been revised to allow extension of the 60-day period for accepting submissions, and section H.7 has been revised to allow an initial period of 180 days to issue a public report, and to remove the 60-day limitation on an extension of time. OTLA believes these revisions strike an appropriate balance between the need to resolve submissions promptly, and the need for careful research, investigation, and analysis in deciding whether to accept a submission and in preparation of public reports in cases that often present complex legal and factual issues.

Designation of the Secretary of the National Administrative Office

Article 15.1 of the NAALC requires the Parties to establish a National Administrative Office (NAO) at the Federal government level and to notify the other Parties of its location. Article 15.2 requires each Party to designate a Secretary for its NAO, who shall be responsible for its administration and management. Pursuant to the NAALC, the Secretary of Labor established the U.S. NAO in 1994 (59 FR 16660 (Apr. 1, 1994) and is responsible for its administration. To clarify that the Secretary of Labor has the authority to designate the Secretary of the NAO and retains flexibility in making the designation, Section A.3 of the Guidelines has been revised to indicate that the Director of the OTLA shall be the Secretary of the NAO unless the Secretary of Labor directs otherwise.

The attached notice reassigns the functions of the Office of Trade Agreement Implementation to the Office of Trade and Labor Affairs and sets out revised procedural guidelines pertaining to public submissions, superseding the Revised Notice of Establishment and Procedural Guidelines published on April 7, 1994 (59 FR 16660) and the Notice of Renaming the National Administrative Office as the Office of Trade Agreement Implementation; Designation of the Office as the Contact Point for Labor Provisions of Free Trade Agreements; and Request for Comments on Procedural Guidelines published on December 23, 2004 (69 FR 77128).

Signed at Washington, DC, on December 14, 2006.
Elaine L. Chao,
Secretary of Labor.

The Notice Is Set Out Below.

Notice of Procedural Guidelines

Section A. Designation of Contact Point

1. The Office of Trade and Labor Affairs is designated as the contact point as required by Article 15.4.2 and Annex 15-A of the U.S.-Bahrain FTA, Article 18.4.3 and Annex 18.5 of the U.S.-Chile FTA, Article 17.4.2 and Annex 17A of the U.S.-Singapore FTA, Article 16.4.1 and Annex 16-A of the U.S.-Morocco FTA, Article 18.4.2 of the U.S.-Australia FTA, and Article 16.4.3 and Annex 16.5 of the U.S.-Dominican Republic-Central America FTA (CAFTA-DR).

2. The Office of Trade and Labor Affairs is designated as the contact point for labor chapters of other FTAs to which the United States may become a party to the extent provided for in such agreements, implementing legislation, or accompanying statements of administrative action.

3. The Office of Trade and Labor Affairs retains the functions of, and designation as, the National Administrative Office to administer Departmental responsibilities under the North American Agreement on Labor Cooperation. Unless the Secretary of Labor directs otherwise, the Director of the Office of Trade and Labor Affairs retains the functions of, and designation as, the Secretary of the National Administrative Office under Article 15 of the North American Agreement on Labor Cooperation.

Section B. Definitions

As used herein:

FTA means the U.S.-Bahrain Free Trade Agreement, the U.S.-Chile Free Trade Agreement, the U.S.-Singapore Free Trade Agreement, the U.S.-Australia Free Trade Agreement, the U.S.-Morocco Free Trade Agreement, the CAFTA-DR, or other free trade agreement to which the United States may become a party under which the Department is given a role in administering the labor provisions of the agreement;

Another Party or other Party means a country other than the United States that is a Party to an FTA or the NAALC;

Commission for Labor Cooperation means the Commission for Labor Cooperation established pursuant to Article 8 of the NAALC;

Labor chapter means Chapter 15 of the U.S.-Bahrain FTA, Chapter 18 of the U.S.-Chile FTA, Chapter 17 of the U.S.-Singapore FTA, Chapter 16 of the U.S.-Morocco FTA, Chapter 18 of the U.S.-Australia FTA, Chapter 16 of the CAFTA-DR, or a labor chapter of any other FTA;

Labor committee refers to (1) The Labor Affairs Council established pursuant to Article 18.4.1 of the U.S.-Chile Free Trade Agreement, Article 16.4.1 of the CAFTA-DR, or pursuant to any other FTA and (2) a Subcommittee on Labor Affairs that may be established by the Joint Committee pursuant to Article 15.4 of the Bahrain FTA, Article 17.4.1 of the U.S.-Singapore FTA, Article 18.4.1 of the U.S.-Australia FTA, Article 16.6.3 of the U.S.-Morocco FTA, or pursuant to any other FTA;

Labor cooperation program refers to (1) The Cooperative Activities Program undertaken by the Parties to the NAALC and (2) a Labor Cooperation Mechanism established pursuant to Article 15.5 of the U.S.-Bahrain FTA, Article 18.5 of the U.S.-Chile FTA, Article 17.5 of the U.S.-Singapore FTA, Article 16.5 of the U.S.-Morocco FTA, Article 18.5 of the U.S.-Australia FTA, Article 16.5 of the CAFTA-DR, or a similar mechanism established pursuant to any other FTA;

Labor organization includes any organization of any kind, including such local, national, and international organizations or federations, in which employees participate and which exists for the purpose, in whole or in part, of dealing with employers concerning grievances, labor disputes, wages, rates of pay, hours, or other terms or conditions of employment;

NAALC means the North American Agreement on Labor Cooperation;

Non-governmental organization means any scientific, professional, business, or public interest organization or association that is neither affiliated with, nor under the direction of, a government;

Party means a Party to an FTA or the NAALC;

Person includes one or more individuals, non-governmental organizations, labor organizations, partnerships, associations, corporations, or legal representatives; and

Submission means a communication from the public containing specific allegations, accompanied by relevant supporting information, that another Party has failed to meet its commitments or obligations arising under a labor chapter or Part Two of the NAALC.

Section C. Functions of the Office of Trade and Labor Affairs

1. The OTLA shall receive and consider communications from the public on any matter related to the NAALC or a labor chapter of an FTA. The OTLA shall consider the views expressed by the public; consult, as appropriate, with foreign government officials, the designated contact point, and non-government representatives; and provide appropriate and prompt responses.

2. The OTLA shall provide assistance to the Secretary of Labor on all matters concerning a labor chapter of an FTA or the NAALC, including the development and implementation of a labor cooperation program.

3. The OTLA shall serve as a contact point with agencies of the United States government, counterparts from another Party, the public, governmental working or expert groups, business representatives, labor organizations, and non-governmental organizations concerning matters under a labor chapter or the NAALC. The OTLA encourages comments on relevant labor issues from the public at large and will consider them as appropriate.

4. The OTLA shall promptly provide publicly available information pursuant to Article 16.2 of the NAALC as requested by the Secretariat of the Commission for Labor Cooperation, the National Administrative Office of another Party, or an Evaluation Committee of Experts.

5. The OTLA shall receive, determine whether to accept for review, and review submissions on another Party's commitments and obligations arising under a labor chapter or the NAALC, as set out in Sections F, G, and H.

6. The OTLA may initiate a review of any matter arising under a labor chapter or the NAALC.

7. The OTLA may request, undertake, and participate in consultations with another Party pursuant to Parts One, Four and Five of the NAALC, or pursuant to the consultation provisions of FTAs, such as Article 15.6 of the U.S.-Bahrain FTA, Article 18.6 of the U.S.-Chile FTA, Article 17.6 of the U.S.-Singapore FTA, Article 18.6 of the U.S.-Australia FTA, Article 16.6 of the U.S.-Morocco FTA, and Article 16.6 of the CAFTA-DR, and respond to requests for such consultations made by another Party.

8. The OTLA shall assist a labor committee or the Commission for Labor Cooperation on any relevant matter.

9. The OTLA shall, as appropriate, establish working or expert groups; consult with and seek advice of non-governmental organizations or persons; prepare and publish reports as set out in Section J and on matters related to the implementation of a labor chapter pursuant to Article 15.4.3 and 15.4.5 of the U.S.-Bahrain FTA, Article 18.4.4 and 18.4.6 of the U.S.-Chile FTA, Article 17.4.3 and 17.4.5 of the U.S.-Singapore FTA, Article 16.4.4 and 16.4.6 of the CAFTA-DR, Article 18.4.3 of the U.S.-Australia FTA, Article 16.4.2 and 16.4.4 of the U.S.-Morocco FTA, or pursuant to any other FTA; collect and maintain information on labor law matters involving another Party; and compile materials concerning labor law legislation of another Party.

10. The OTLA shall consider the views of any advisory committee established or consulted to provide advice in administering a labor chapter or the NAALC.

11. In carrying out its responsibilities under the labor chapters and the NAALC, the OTLA shall consult with the Office of the United States Trade Representative, the Department of State, and other appropriate entities in the U.S. government.

Section D. Cooperation

1. The OTLA shall conduct at all times its activities in accordance with the principles of cooperation and respect embodied in the FTAs and the NAALC. In its dealings with a contact point of another Party and all persons, the OTLA shall endeavor to the maximum extent possible to resolve matters through consultation and cooperation.

2. The OTLA shall consult with the contact point of another Party during the submission and review process set out in Sections F, G and H in order to obtain information and resolve issues that may arise.

3. The OTLA, on behalf of the Department of Labor and with other appropriate agencies, shall develop and implement cooperative activities under a labor cooperation program. The OTLA may carry out such cooperative activities through any means the Parties deem appropriate, including exchange of government delegations, professionals, and specialists; sharing of information, standards, regulations and procedures, and best practices; organization of conferences, seminars, workshops, meetings, training sessions, and outreach and education programs; development of collaborative projects or demonstrations; joint research projects, studies, and reports; and technical exchanges and cooperation.

4. The OTLA shall receive and consider views on cooperative activities from worker and employer representatives and from other members of civil society.

Section E. Information

1. The OTLA shall maintain public files in which submissions, transcripts of hearings, Federal Register notices, reports, advisory committee information, and other public information shall be available for inspection during normal business hours, subject to the terms and conditions of the Freedom of Information Act, 5 U.S.C. 552.

2. Information submitted by a person or another Party to the OTLA in confidence shall be treated as exempt from public inspection if the information meets the requirements of 5 U.S.C. 552(b) or as otherwise permitted by law. Each person or Party requesting such treatment shall clearly mark ”submitted in confidence” on each page or portion of a page so submitted and furnish an explanation as to the need for exemption from public inspection. If the material is not accepted in confidence it will be returned promptly to the submitter with an explanation for the action taken.

3. The OTLA shall be sensitive to the needs of an individual's confidentiality and shall make every effort to protect such individual's interests.

Section F. Submissions

1. Any person may file a submission with the OTLA regarding another Party's commitments or obligations arising under a labor chapter or Part Two of the NAALC. Filing may be by electronic e-mail transmission, hand delivery, mail delivery, or facsimile transmission. A hard copy submission must be accompanied by an electronic version in a current PDF, Word or Word Perfect format, including attachments, unless it is not practicable.

2. The submission shall identify clearly the person filing the submission and shall be signed and dated. It shall state with specificity the matters that the submitter requests the OTLA to consider and include supporting information available to the submitter, including, wherever possible, copies of laws or regulations that are the subject of the submission. As relevant, the submission shall address and explain to the fullest extent possible whether:

(a) The matters referenced in the submission demonstrate action inconsistent with another Party's commitments or obligations under a labor chapter or the NAALC, noting the particular commitment or obligation;

(b) there has been harm to the submitter or other persons, and, if so, to what extent;

(c) the matters referenced in the submission demonstrate a sustained or recurring course of action or inaction of non-enforcement of labor law by the other Party;

(d) the matters referenced in the submission affect trade between the parties;

(e) relief has been sought under the domestic laws of the other Party, and, if so, the status of any legal proceedings; and

(f) the matters referenced in the submission have been addressed by or are pending before an international body.

Section G. Acceptance of Submissions

1. Within 60 days after the filing of a submission, unless circumstances as determined by the OTLA require an extension of time, the OTLA shall determine whether to accept the submission for review. The OTLA may communicate with the submitter during this period regarding any matter relating to the determination.

2. In determining whether to accept a submission for review, the OTLA shall consider, to the extent relevant, whether:

(a) The submission raises issues relevant to any matter arising under a labor chapter or the NAALC;

(b) a review would further the objectives of a labor chapter or the NAALC;

(c) the submission clearly identifies the person filing the submission, is signed and dated, and is sufficiently specific to determine the nature of the request and permit an appropriate review;

(d) the statements contained in the submission, if substantiated, would constitute a failure of the other Party to comply with its obligations or commitments under a labor chapter or the NAALC;

(e) the statements contained in the submission or available information demonstrate that appropriate relief has been sought under the domestic laws of the other Party, or that the matter or a related matter is pending before an international body; and

(f) the submission is substantially similar to a recent submission and significant, new information has been furnished that would substantially differentiate the submission from the one previously filed.

3. If the OTLA accepts a submission for review, it shall promptly provide written notice to the submitter, the relevant Party, and other appropriate persons, and promptly publish in the Federal Register notice of the determination, a statement specifying why review is warranted, and the terms of the review.

4. If the OTLA declines to accept a submission for review, it shall promptly provide written notice to the submitter stating the reasons for the determination.

Section H. Reviews and Public Reports

1. Following a determination by the OTLA to accept a submission for review, the OTLA shall conduct such further examination of the submission as may be appropriate to assist it to better understand and publicly report on the issues raised. The OTLA shall keep the submitter apprised of the status of a review.

2. Except for information exempt from public inspection pursuant to Section E, information relevant to a review shall be placed in a public file.

3. The OTLA shall provide a process for the public to submit information relevant to the review, which may include holding a public hearing.

4. Notice of any such hearing under paragraph 3 shall be published in the Federal Register 30 days in advance. The notice shall contain such information as the OTLA deems relevant, including information pertaining to requests to present oral testimony and written briefs.

5. Any hearing shall be open to the public. All proceedings shall be conducted in English, with simultaneous interpretation provided as the OTLA deems necessary.

6. Any hearing shall be conducted by an official of the OTLA or another Departmental official, assisted by staff and legal counsel, as appropriate. The public file shall be made part of the hearing record at the commencement of the hearing.

7. Within 180 days of the acceptance of a submission for review, unless circumstances as determined by the OTLA require an extension of time, the OTLA shall issue a public report.

8. The report shall include a summary of the proceedings and any findings and recommendations.

Section I. Recommendations to the Secretary of Labor

1. The OTLA may make a recommendation at any time to the Secretary of Labor as to whether the United States should request consultations with another Party pursuant to Article 15.6.1 of the U.S.-Bahrain FTA, Article 18.6.1 of the U.S.-Chile FTA, Article 17.6.1 of the U.S.-Singapore FTA, Article 18.6.1 of the U.S. Australia FTA, Article 16.6.1 of the U.S. Morocco FTA, Article 16.6.1 of the CAFTA-DR, pursuant to the labor provisions of any other FTA, or consultations with another Party at the ministerial level pursuant to Article 22 of the NAALC. As relevant and appropriate, the OTLA shall include any such recommendation in the report prepared in response to a submission.

2. If, following any such consultations, the matter has not been resolved satisfactorily, the OTLA shall make a recommendation to the Secretary of Labor concerning the convening of a labor committee in accordance with an FTA, or the establishment of an Evaluation Committee of Experts in accordance with Article 23 of the NAALC, as appropriate.

3. If the mechanisms referred to in paragraph 2 are invoked and the matter subsequently remains unresolved, and the matter concerns whether a Party is conforming with an obligation under a labor chapter, such as Article 16.2.1.a of the CAFTA-DR, Article 18.2.1.a of the U.S.-Chile FTA, or Part Two of the NAALC, that is subject to the dispute settlement provisions of an FTA or the NAALC, the OTLA shall make a recommendation to the Secretary of Labor concerning pursuit of dispute resolution under such provisions.

4. Before making such recommendations, OTLA shall consult with the Office of the United States Trade Representative, the Department of State, and other appropriate entities in the U.S. government

Section J. Periodic and Special Reports

1. The OTLA shall publish periodically a list of submissions presented to it, including a summary of the disposition of such submissions.

2. The OTLA shall obtain and publish periodically information on public communications considered by the other Parties.

3. The OTLA may undertake reviews and publish special reports on any topics under its purview on its own initiative or upon request from the Secretary of Labor.

[FR Doc. E6-21837 Filed 12-20-06; 8:45 am]

BILLING CODE 4510-28-P